DEPARTMENT OF COMMERCE

National Oceanic and Atmospheric Administration

50 CFR Part 217

[Docket No. 211208-0254]

RIN 0648-BK69

Takes of Marine Mammals Incidental to Specified Activities; Taking Marine Mammals Incidental to U.S. Navy Construction at Naval Station Newport in Newport, Rhode Island

AGENCY: National Marine Fisheries Service (NMFS), National Oceanic and Atmospheric Administration (NOAA), Commerce.

ACTION: Final rule; correction.

SUMMARY: On December 15, 2021, NOAA published a rule governing the take of marine mammals incidental to U.S. Navy (Navy) construction at Naval Station Newport in Newport, Rhode Island. The rule contained a systematic section numbering error in the regulatory text. This document corrects the section numbers to the added subpart.

DATES: Effective May 15, 2022 through May 14, 2027.

FOR FURTHER INFORMATION CONTACT: Stephanie Egger, 301-427-8401.

SUPPLEMENTARY INFORMATION: This document contains corrections to the regulatory text to the final regulations published on December 15, 2021, governing the take of marine mammals incidental to the Navy construction at Naval Station Newport in Newport, Rhode Island. This action is necessary to correct an error in where regulatory text where the section numbers were mislabeled in the Federal Register.

Correction

In FR Rule Doc. No. 2021-27133, published December 15, 2021, at 86 FR 71162, the section numbers for added subpart R are corrected from §§ 217.70 through 217.79 to §§ 217.170 through 217.179. In the following table, on pages 71178 through 71180, remove the section number indicated in the left column from wherever it appears in the regulatory text and add in its place the section number indicated in the right column:

Remove | Add
217.70 | 217.170
217.71 | 217.171
217.72 | 217.172
217.73 | 217.173
217.74 | 217.174
217.75 | 217.175
217.76 | 217.176
217.77 | 217.177
217.78 | 217.178
217.79 | 217.179

Dated: January 4, 2022.
Samuel D. Rauch III,
Deputy Assistant Administrator for Regulatory Programs, National Marine Fisheries Service.

[FR Doc. 2022-00116 Filed 1-6-22; 8:45 am]

BILLING CODE 3510-22-P